DEPARTMENT OF AGRICULTURE

Farm Service Agency

Information Collection; Minority Farm Register

AGENCY: Farm Service Agency, USDA.

ACTION: Notice; request for comments.

SUMMARY: In accordance with the Paperwork Reduction Act of 1995, the Farm Service Agency (FSA) is seeking comments from all interested individuals and organizations on the extension of a currently approved information collection for the Minority Farm Register. The Minority Farm Register is a voluntary register of minority farm and ranch operators, landowners, tenants and others with an interest in farming or agriculture. USDA Office of Outreach uses the collected information to better inform minority farmers about USDA programs and services.

DATES: We will consider comments that we receive by May 28, 2010.

ADDRESSES: We invite you to submit comments on this notice. In your comments, include date, volume, and page number of this issue of the Federal Register. You may submit comments by any of the following methods:

• Mail: Monique B. Randolph, Staff Assistant, Farm Service Agency, STOP 0599, 1400 Independence Avenue, SW., Washington, DC 20250-0503.

• E-mail: monique.randolph@usda.gov.

• Fax: 202-690-0408.

You may also send comments to the Desk Officer for Agriculture, Office of Information and Regulatory Affairs, Office of Management and Budget, Washington, DC 20503. Copies of the information collection may be requested by contacting Monique B. Randolph at the above addresses.

FOR FURTHER INFORMATION CONTACT: Monique B. Randolph, Staff Assistant, Farm Service Agency, (202) 720-0402.

SUPPLEMENTARY INFORMATION:

Title: USDA Minority Farm Register.

OMB Number: 0560-0231.

Expiration Date: 9/30/2010.

Type of Request: Extension.

Abstract: The Minority Farm Register is a voluntary register of minority farm and ranch operators, landowners, tenants and others with an interest in farming or agriculture. The registrant's name, address, email, phone number, race, ethnicity, gender, farm location, and signature will be collected. The name, address, and signature are the only items required to register. Providing this information is completely voluntary. USDA's Office of Outreach will use this information to help inform minority farmers and ranchers about programs and services provided by USDA agencies.

The Minority Farm Register is maintained by FSA and jointly administered by FSA and USDA's Office of Outreach. Because USDA partners with community-based organizations, minority-serving educational institutions, and other groups to communicate USDA's program and services, the Office of Outreach may share information collected with these organizations for outreach purposes. The race, ethnicity, and gender of registrants may be used to provide information about programs and services that are designed for these particular groups. Information about the Minority Farm Register is available on the internet to ensure that the program is widely publicized and accessible to all.

Respondents: Individuals and households.

Estimated Annual Number of Respondents: 5,000.

Estimated Annual Number of Forms Filed per Person: 1.

Estimated Total Number of Responses: 5,000.

Estimated Average Time to Respond: 5 minutes and 1 hour of traveling time.

Estimated Total Annual Burden Hours: 4667.

We are requesting comments on all aspects of this information collection and to help us to:

(1) Evaluate whether the collection of information is necessary for the proper performance of the functions of the agency, including whether the information will have practical utility;

(2) Evaluate the accuracy of the agency's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for OMB approval.

Signed at Washington, DC, on March 18, 2010.
Jonathon W. Coppess,
Administrator, Farm Service Agency.

[FR Doc. 2010-6830 Filed 3-26-10; 8:45 am]

BILLING CODE 3410-05-P